NATIONAL AERONAUTICS AND SPACE ADMINISTRATION

[Notice (05-072)]

Aeronautics Research Advisory Committee, Aviation Safety Reporting System Subcommittee; Meeting

AGENCY: National Aeronautics and Space Administration.

ACTION: Notice of meeting.

SUMMARY: In accordance with the Federal Advisory Committee Act, Pub. L. 92-463, as amended, the National Aeronautics and Space Administration announces a meeting of the Aviation Safety Reporting System Subcommittee (ASRSS).

DATES: Tuesday, May 24, 2005, 9 a.m. to 5 p.m.

ADDRESSES: Air Line Pilots Association, 1625 Massachusetts Ave, NW., Washington DC.

FOR FURTHER INFORMATION CONTACT: Ms. Linda Connell, National Aeronautics and Space Administration, Ames Research Center, Moffett Field, CA 94035, 650/960-6059.

SUPPLEMENTARY INFORMATION: The meeting will be open to the public up to the seating capacity of the room. The agenda for the meeting is as follows:

—Opening Remarks.

—Program Status.

—Strategic Planning.

—Closing Comments.

Attendees will be requested to sign a register. It is imperative that the meeting be held on these dates to accommodate the scheduling priorities of the key participants.

Dated: April 11, 2005.
P. Diane Rausch,
Advisory Committee Management Officer, National Aeronautics and Space Administration.

[FR Doc. 05-7538 Filed 4-14-05; 8:45 am]

BILLING CODE 7510-13-P